DEPARTMENT OF HEALTH AND HUMAN SERVICES

Centers for Disease Control and Prevention

[60 Day-01-53]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Survey to Assess Hepatitis B Vaccination Coverage Among U.S. Health-Care Workers—New—National Center for Infectious Diseases (NCID), Centers for Disease Control and Prevention (CDC). Since 1982, CDC has recommended hepatitis B vaccination of health-care workers who perform tasks that place them at risk for exposure to blood or other potentially infectious materials that may contain hepatitis B virus. Data from 1997 indicated that approximately 65% of U.S. health-care workers had received the hepatitis B vaccine.

Increasing national hepatitis B vaccination coverage among health-care workers to 98% has been included as a goal in the Healthy People 2010 initiative published by the National Center for Health Statistics. A cross-sectional survey has been developed to assess hepatitis B vaccination coverage levels among health-care workers in the United States. The proposed survey will provide data that can be used to assess progress towards achieving the 2010 goal. This survey will also provide data on facility-based hepatitis B vaccination policies and procedures that may affect vaccine coverage levels. The results of the project will assist the Division of Viral Hepatitis, National Center for Infectious Diseases, in the prevention and control of hepatitis B among health-care workers. There are no costs to respondents. The total response burden for the study is estimated as follows:

Form name | Number of respondents | Number of responses per respondent | Average burden per response (in hours) | Total burden (in hours)
Form A | 300 | 1 | 30/60 | 150
Form B | 300 | 25 | 15/60 | 1875
Total |  |  |  | 2025

Dated: July 11, 2001.
Nancy Cheal,
Acting Associate Director for Policy, Planning and Evaluation Centers for Disease Control and Prevention.

[FR Doc. 01-17792 Filed 7-16-01; 8:45 am]

BILLING CODE 4163-18-P